DEPARTMENT OF ENERGY

Federal Energy Regulatory Commission

Combined Notice of Filings # 1

November 2, 2007.

Take notice that the Commission received the following electric rate filings:

Docket Numbers: ER98-855-009.

Applicants: Wisconsin Electric Power Company.

Description: Wisconsin Electric Power Company submits its clean and redlined versions of its corrected updated FERC Electric Market Rate Tariff to reflect the proper page numbering.

Filed Date: 10/29/2007.

Accession Number: 20071101-0063.

Comment Date: 5 p.m. Eastern Time on Monday, November 19, 2007.

Docket Numbers: ER08-97-000.

Applicants: Public Service Company of New Hampshire.

Description: Northeast Utilities Service Co on behalf of Public Service Co. of New Hampshire submits Amendment 1 to the Interconnection and Operations Agreement with Granite Ridge Energy, LLC.

Filed Date: 10/30/2007.

Accession Number: 20071101-0089.

Comment Date: 5 p.m. Eastern Time on Tuesday, November 20, 2007.

Docket Numbers: ER08-105-000.

Applicants: Florida Power Corporation.

Description: Florida Power Corp dba Progress Energy Florida, Inc submits revised tariffs sheets for the transmission rates.

Filed Date: 10/29/2007.

Accession Number: 20071101-0139.

Comment Date: 5 p.m. Eastern Time on Monday, November 19, 2007.

Docket Numbers: ER08-106-000.

Applicants: Pacific Gas and Electric Company.

Description: Pacific Gas and Electric Company submits its 19th Quarterly Filing of Facilities Agreements designated as Revised Rate Schedule No.114.

Filed Date: 10/29/2007.

Accession Number: 20071101-0113.

Comment Date: 5 p.m. Eastern Time on Monday, November 19, 2007.

Docket Numbers: ER08-113-000.

Applicants: Southern California Edison Company.

Description: Southern California Edison Co. submits the annual update filing of the transmission revenue balancing account adjustment.

Filed Date: 10/30/2007.

Accession Number: 20071101-0145.

Comment Date: 5 p.m. Eastern Time on Tuesday, November 20, 2007.

Docket Numbers: ER08-114-000.

Applicants: Oncor Electric Delivery Company LLC.

Description: Oncor Electric Delivery Co, LLC submits a Notice of Succession.

Filed Date: 10/31/2007.

Accession Number: 20071101-0162.

Comment Date: 5 p.m. Eastern Time on Wednesday, November 21, 2007.

Docket Numbers: ER08-118-000.

Applicants: Florida Power & Light Company.

Description: Florida Power & Light Company submits a new Rate Schedule 307 between Oleander Power Project LP and Florida Municipal Power Agency.

Filed Date: 10/31/2007.

Accession Number: 20071101-0102.

Comment Date: 5 p.m. Eastern Time on Wednesday, November 21, 2007.

Take notice that the Commission received the following electric securities filings:

Docket Numbers: ES08-4-000.

Applicants: Interstate Power and Light Company.

Description: Form 523—Request for Permission to Issue Securities of Interstate Power and Light Company.

Filed Date: 10/31/2007.

Accession Number: 20071030-5082.

Comment Date: 5 p.m. Eastern Time on Wednesday, November 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-22033 Filed 11-8-07; 8:45 am]

BILLING CODE 6717-01-P